DEPARTMENT OF THE INTERIOR

Bureau of Land Management

[BLM_NV_FRN; MO #4500170409]

Notice of Availability of the Draft Environmental Impact Statement and Resource Management Plan Amendments for the Greenlink West Project in Clark, Esmeralda, Lyon, Mineral, Nye, Storey, and Washoe Counties, NV

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a draft environmental impact statement (Draft EIS)/resource management plan amendments (RMPA) for the Greenlink West Project and by this notice is providing information announcing the opening of the comment period on the Draft EIS/RMPA. The BLM Nevada State Office is the lead agency for purposes of the NEPA analysis with the U.S. National Park Service (NPS), Bureau of Indian Affairs (BIA), and other agencies serving as cooperating agencies.

DATES: This notice announces the opening of a 90-day comment period for the Draft EIS/RMPA beginning with the date following the Environmental Protection Agency's (EPA) publication of its Notice of Availability (NOA) in the Federal Register. The EPA usually publishes its NOAs on Fridays.

To afford the BLM the opportunity to consider comments in the Draft EIS/RMPA, please ensure your comments are received prior to the close of the 90-day comment period or 15 days after the last public meeting, whichever is later.

The BLM will be hosting both virtual and in-person public meetings during the 90-public comment period. The dates and locations of any public meetings will be announced at least 15 days in advance through local media, newspapers, and the BLM website at: https://eplanning.blm.gov/eplanning-ui/project/2017391/510.

ADDRESSES: You may submit comments related to the Greenlink West Project Draft EIS/RMPA by any of the following methods:

• ePlanning Website: https://eplanning.blm.gov/eplanning-ui/project/2017391/510.

• Email: BLM_NV_greenlinkwest@blm.gov.

• Mail: BLM Nevada State Office, Attn: Brian Buttazoni, Planning & Environmental Specialist, Branch of Renewable Energy, BLM Nevada State Office, 1340 Financial Boulevard, Reno, Nevada 89502.

FOR FURTHER INFORMATION CONTACT: Brian Buttazoni, Planning & Environmental Specialist, telephone (775) 861-6491; address: 1340 Financial Boulevard, Reno, NV 89502; email: blm_nv_greenlinkwest@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On July 22, 2020, Nevada Power Company and Sierra Pacific Power Company dba NV Energy (NV Energy or Proponent) filed an Application for Transportation, Utility Systems, Telecommunications, and Facilities on Federal Lands and Property (Standard Form 299) and a preliminary Plan of Development with the BLM Nevada State Office for a FLPMA Right-of-Way and Short-Term Right-of-Way authorization for the Greenlink West Project (NVN-99863 and NVN-99863-01).

The Draft EIS/RMPA analyzes the environmental impacts of the authorization of a 200-foot-wide right-of-way (ROW) by the BLM for the construction, operations, and decommissioning of the 525-kV line, a 160-foot-wide ROW for the 345-kV lines, and a 600-foot short-term ROW for construction and staging to NV Energy for a 474-mile system of new 525-kilovolt (kV), 345-kV, and 120-kV overhead electric transmission lines. The proposal also includes transmission and distribution lines, substations, microwave radio facilities, amplifier sites, access roads, and construction/material yards. The Draft EIS/RMPA analyzes the impacts of potential RMP amendments together with the impacts of the various alternative routes.

A Notice of Intent to Prepare an EIS for the Greenlink West Project published in the Federal Register on May 2, 2022 (87 FR 25658), providing notice to the public of potential amendments to RMPs, as required by 43 CFR 1610.2(c). The public scoping period closed on June 1, 2022. The BLM held four public scoping meetings and received approximately 81 public scoping comment letters during the 30-day scoping period. The scoping comments focused on biological resources, alternatives development, visual resources, cultural resources, impacts to general and special-status wildlife species, including threatened and endangered species and their habitat, social and economic conditions, vegetation/riparian/noxious and invasive weeds/special status plant species, including threatened and endangered species and their habitat, water resources, wilderness, wilderness study areas, lands with wilderness characteristics, special designations, recreation, socioeconomic concerns, and Native American cultural/sacred sites. The BLM prepared a scoping report, which is available on the project's ePlanning website— https://eplanning.blm.gov/eplanning-ui/project/2017391/510.

Purpose and Need

The BLM's purpose is to respond to the ROW application submitted by the Proponent to construct, operate, maintain, and decommission a system of transmission facilities and associated infrastructure that would transmit electricity between the Harry Allen Substation in Clark County and the Mira Loma and Comstock Meadows substations in Washoe County and Storey County, respectively.

The need for this action is to fulfill the BLM's responsibility under FLPMA and its ROW regulations to manage the public lands for multiple uses, including the transmission of electric energy. FLPMA, as amended, established a multiple-use mandate for the BLM's management of federal lands, including “systems for generation, transmission, and distribution of electric energy, except that the Proponent shall also comply with all applicable requirements of the FERC under the Federal Power Act, including Part I thereof (41 Stat. 1063, 16 U.S.C. 791a-825r).” (43 U.S.C. 1761(a)(4))

The BIA's purpose, as a Department of the Interior (DOI) bureau with a NEPA compliance need, is to respond to the ROW application submitted by the Proponent to construct, operate, maintain, and decommission a transmission line over or across lands held in trust for the Las Vegas and Walker River Paiute Tribes, and the Timbisha Shoshone Tribe.

The BIA's need for this action is to fulfill its responsibility under 25 CFR part 169 (Rights-of-Way over Indian Land) regulations to review and approve actions on Tribal trust lands. The BIA's purpose and need, pursuant to 25 U.S.C. 415, is to deny, grant, or grant with modifications the ROW agreements between the Walker River and Las Vegas Paiute Tribes, Timbisha Shoshone Tribe, and the Proponent. The final ROW grant would include any restrictions or conditions imposed in a consent document between the applicant and both the Las Vegas and Walker River Paiute Tribes, and the Timbisha Shoshone Tribe.

The NPS's purpose, as a DOI bureau with a NEPA compliance need, is to respond to the ROW application submitted by the Proponent to operate and maintain a transmission line over or across NPS-administered lands designated to conserve and protect unique and nationally important paleontological resources.

The need for this action is to fulfill the NPS responsibility under NPS ROW regulations to manage Tule Springs Fossil Beds National Monument in compliance with the 2015 National Defense Authorization Act (Pub. L. 113-291) enabling legislation and the NPS 2006 Management Policies. The NPS ROW permits are discretionary and revocable and do not convey an interest in land. All NPS ROW permit applications will be processed in accordance with the NPS ROW permitting guidance document, Reference Manual 53-B, and all other applicable regulations and policy. All new NPS ROW permits must be approved by the NPS Director or NPS Regional Director. Proposed uses of NPS-administered lands and waters may not be incompatible with the public interest or the NPS responsibilities under 54 U.S.C. 100101 (the 1916 Organic Act, expanded upon in 36 CFR 14). Under 54 U.S.C. 100902, the NPS has the authority to issue a ROW permit for utilities.

Proposed Action and Alternatives, Including the Preferred Alternative

The BLM has analyzed the No Action Alternative, the Proposed Action as submitted by NV Energy, and the Preferred Alternative. In addition, the BLM has also analyzed several transmission route groups that it developed to address concerns by the public about impacts to cultural, biological, and socioeconomic resources. The BLM has identified a Preferred Alternative, which is a modification of the Proposed Action with the inclusion of transmission line, substation, and microwave alternatives. The BLM also considered 21 additional alternatives but dismissed these from detailed analysis as explained in Section 2.3 of the Draft EIS/RMPA.

Under the No Action Alternative, the BLM would not authorize the ROW for the construction, operation, maintenance, and decommissioning of a system of transmission facilities and associated infrastructure. The agency purpose and need would not be met by the No Action Alternative.

Under the Proposed Action and Preferred Alternative, the BLM, NPS and BIA would authorize ROWs for the construction, operation, maintenance, and decommissioning of a system of transmission facilities and associated infrastructure. Both alternatives would meet the agency purpose and need, however the Preferred Alternative would utilize certain different transmission line, substation, and microwave alternatives.

The BLM determined that two plan amendments to the 1998 Las Vegas RMP warranted evaluation in the Proposed Action. The Greenlink West Project area includes Visual Resource Management (VRM) Classes II, III, and IV. The BLM has evaluated the re-classification of a part of the alignment from VRM Class II to Class IV. The Greenlink West Project area also crosses a West-Wide Energy Corridor (WWEC). Portions of that WWEC that are unoccupied by utility infrastructure would be re-aligned to match that of the Greenlink West Project transmission line.

Mitigation

The BLM added an anti-perching/nesting mitigation measure to the Proposed Action to reduce the potential for raven predation on Bi-State sage-grouse and the Mohave desert tortoise through installation of tubular (no-lattice) transmission structures (e.g., tubular H-frame, three-pole dead end, or monopole structures). Perch and nest deterrent devices would also be installed on all transmission and distribution structures within Mojave desert tortoise recovery units and within two miles of Bi-State sage-grouse Priority Areas for Conservation.

Anticipated Permits and Authorizations

If approved, the BLM, NPS, and BIA would issue a ROWs for their jurisdiction. The term of the ROWs would be for 30-years.

Consultation Efforts

The BLM is utilizing the NEPA substitution process to comply with the requirements of Section 106 of the National Historic Preservation Act (NHPA), 54 U.S.C. 306108, consistent with 36 CFR 800.8(c). The BLM, as lead federal agency, has incorporated information and the steps of the Section 106 process into the Draft EIS, and publication of the Draft EIS will allow the consulting parties and the public an opportunity to review and comment on the process as provided in 36 CFR 800.8(c)(2).

The BLM will continue to consult with Indian Tribal Nations on a government-to-government basis in accordance with Executive Order 13175, BLM MS 1780, and other Departmental policies. Tribal concerns, including impacts on Indian trust assets and potential impacts to cultural resources, will be given due consideration. Additional government-to-government meetings are planned, and coordination will continue through project implementation.

Schedule for the Decision-Making Process

Consistent with the NEPA and BLM's land use planning regulations, the BLM will include a 30-day public protest period and a concurrent 60-day Governor's consistency review when the BLM publishes the Final EIS/Proposed RMPA. The Final EIS/Proposed RMPA is anticipated to be available in winter 2024 with an approved RMPA and Record of Decision in spring 2024.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Jon K. Raby,
Nevada State Director.

[FR Doc. 2023-11102 Filed 5-25-23; 8:45 am]

BILLING CODE 4331-21-P